NUCLEAR REGULATORY COMMISSION

Sunshine Federal Register Notice

AGENCY: Nuclear Regulatory Commission

DATES: Weeks of March 10, 17, 24, 31, April 7, 14, 2003.

PLACE: Commissioners' Conference Room, 11555 Rockville Pike, Rockville, Maryland.

STATUS: Public and Closed.

Matters To Be Considered

Week of March 10, 2003

There are no meetings scheduled for the Week of March 10, 2003.

Week of March 17, 2003—Tentative

Thursday, March 20, 2003

10 a.m.

Briefing on Status of Office of Nuclear Security and Incident Response (NSIR) Programs, Performance, and Plans (Closed—Ex. 1)

2 p.m.

Discussion of Management Issues (Closed—Ex. 2)

Week of March 24, 2003—Tentative

Thursday, March 27, 2003

10 a.m.

Briefing on Status of Office of Nuclear Regulatory Research (RES) Programs, Performance, and Plans

This meeting will be webcast live at the Web address: www.nrc.gov.

Week of March 31, 2003—Tentative

There are no meetings scheduled for the Week of March 31, 2003.

Week of April 7, 2003—Tentative

Friday, April 11, 2003

9 p.m.

Meeting with Advisory Committee on Reactor Safeguards (ACRS) (Public Meeting) (Contact: John Larkins, 301-415-7360)

This meeting will be webcast live at the Web address: www.nrc.gov.

12:30 p.m.

Discussion of Management Issues (Closed—Ex. 2)

Week of April 14, 2003—Tentative

There are no meetings scheduled for the Week of April 14, 2003.

The schedule for Commission meetings is subject to change on short notice. To verify the status of meetings call (recording)—(301) 415-1292.

Contact person for more information: David Louis Gamberoni (301) 415-1651.

Additional Information

By a vote of 5-0 on March 2, the Commission determined pursuant to U.S.C. 552b(e) and § 9.107(a) of the Commission's rules that “Discussion of Governmental Issues (Closed—Ex. 9)” be held on March 2, and on less than one week's notice to the public.

The NRC Commission Meeting Schedule can be found on the Internet at: www.nrc.gov/what-we-do/policy-making/schedule.html.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 6, 2003.
David Louis Gamberoni,
Technical Coordinator, Office of the Secretary.

[FR Doc. 03-5870 Filed 3-7-03; 11:18 am]

BILLING CODE 7590-01-M